DEPARTMENT OF LABOR

Mine Safety and Health Administration

Affirmative Decisions on Petitions for Modification Granted in Whole or in Part

AGENCY: Mine Safety and Health Administration (MSHA), Labor.

ACTION: Notice.

SUMMARY: Section 101(c) of the Federal Mine Safety and Health Act of 1977 and 30 CFR part 44 govern the application, processing, and disposition of petitions for modification. This Federal Register Notice notifies the public that MSHA has investigated and issued a final decision on certain mine operator petitions to modify a safety standard.

ADDRESSES: Copies of the final decisions are posted on MSHA's Web Site at http://www.msha.gov/indexes/petition.htm. The public may inspect the petitions and final decisions during normal business hours in MSHA's Office of Standards, Regulations and Variances, 1100 Wilson Boulevard, Room 2349, Arlington, Virginia 22209. All visitors must first stop at the receptionist desk on the 21st Floor to sign-in.

FOR FURTHER INFORMATION CONTACT: Roslyn B. Fontaine, Office of Standards, Regulations and Variances at 202-693-9475 (Voice), fontaine.roslyn@dol.gov (Email), or 202-693-9441 (Telefax), or Barbara Barron at 202-693-9447 (Voice), barron.barbara@dol.gov (Email), or 202-693-9441 (Telefax). [These are not toll-free numbers].

SUPPLEMENTARY INFORMATION:

I. Introduction

Under section 101 of the Federal Mine Safety and Health Act of 1977, a mine operator may petition and the Secretary of Labor (Secretary) may modify the application of a mandatory safety standard to that mine if the Secretary determines that: (1) an alternative method exists that will guarantee no less protection for the miners affected than that provided by the standard; or (2) that the application of the standard will result in a diminution of safety to the affected miners.

MSHA bases the final decision on the petitioner's statements, any comments and information submitted by interested persons, and a field investigation of the conditions at the mine. In some instances, MSHA may approve a petition for modification on the condition that the mine operator complies with other requirements noted in the decision.

II. Granted Petitions for Modification

On the basis of the findings of MSHA's investigation, and as designee of the Secretary, MSHA has granted or partially granted the following petitions for modification:

• Docket Number: M-2009-050-C.

FR Notice: 75 FR 3256 (1/20/2010).

Petitioner: Wolf Run Mining Company, 300 Corporate Centre Drive, Scott Depot, West Virginia 25560.

Mine: Sentinel Mine, MSHA I.D. No. 46-04168, located in Barbour County, West Virginia.

Regulation Affected: 30 CFR 75.1700 (Oil and gas wells).

• Docket Number: M-2009-052-C.

FR Notice: 75 FR 3257 (1/20/2010).

Petitioner: ICG Beckley, LLC, 300 Corporate Centre Drive, Scott Depot, West Virginia 25560.

Mine: Beckley Pocahontas Mine, MSHA I.D. No. 46-05252, located in Raleigh County, West Virginia.

Regulation Affected: 30 CFR 75.1700 (Oil and gas wells).

• Docket Number: M-2010-037-C.

FR Notice: 75 FR 81313 (12/27/2010).

Petitioner: Lone Mountain Processing, Inc., Drawer C, St. Charles, Virginia 24282.

Mine: Huff Creek No. 1 Mine, MSHA I.D. No. 15-17234, located in Harlan County, Kentucky.

Regulation Affected: 30 CFR 75.364(b)(2) (Weekly examination).

• Docket Number: M-2011-010-C.

FR Notice: 76 FR 22150 (4/20/2011).

Petitioner: Brooks Run Mining Company, LLC, 208 Business Street, Beckley, West Virginia 25801.

Mine: Still Run No. 3 Mine, MSHA I.D. No. 46-09301, located in Wyoming County, West Virginia.

Regulation Affected: 30 CFR 75.1101-1(b) (Deluge-type water spray systems).

• Docket Number: M-2011-012-C.

FR Notice: 76 FR 37838 (6/28/2011).

Petitioner: Patton Mining, LLC, 925 South Main Street, Hillsboro, Illinois 62049.

Mine: Deer Run Mine, MSHA I.D. No. 11-03182, located in Montgomery County, Illinois.

Regulation Affected: 30 CFR 75.1700 (Oil and gas wells).

• Docket Number: M-2011-014-C.

FR Notice: 76 FR 37841 (6/28/2011).

Petitioner: Tunnel Ridge, LLC, 2596 Battle Run Road, Triadelphia, West Virginia 26059.

Mine: Tunnel Ridge Mine, MSHA I.D. No. 46-08864, located in Ohio County, West Virginia.

Regulation Affected: 30 CFR 75.503 (Permissible electric equipment; maintenance) and 30 CFR 18.35(a)(5)(i) (Portable (trailing) cables and cords).

• Docket Number: M-2011-019-C.

FR Notice: 76 FR 37832 (6/28/2011).

Petitioner: Tunnel Ridge, LLC, 2596 Battle Run Road, Triadelphia, West Virginia 26059.

Mine: Tunnel Ridge Mine, MSHA I.D. No. 46-08864, located in Ohio County, West Virginia.

Regulation Affected: 30 CFR 75.1700 (Oil and gas wells).

• Docket Number: M-2011-022-C.

FR Notice: 76 FR 51059 (8/17/2011).

Petitioner: Peabody Sage Creek Mining, LLC, Three Gateway Centre, Suite 1340, 401 Liberty Avenue, Pittsburgh, Pennsylvania 15222-1000.

Mine: Peabody Sage Creek Mine, MSHA I.D. No. 05-04952, located in Routt County, Colorado.

Regulation Affected: 30 CFR 75.1909(b)(6) (Nonpermissible diesel-powered equipment; design and performance requirements).

• Docket Number: M-2011-023-C.

FR Notice: 76 FR 51059 (8/17/2011).

Petitioner: Peabody Twentymile Mining, LLC, Three Gateway Centre, Suite 1340, 401 Liberty Avenue, Pittsburgh, Pennsylvania 15222-1000.

Mine: Foidel Creek Mine, MSHA I.D. No. 05-03836, located in Routt County, Colorado.

Regulation Affected: 30 CFR 75.1909(b)(6) (Nonpermissible diesel-powered equipment; design and performance requirements).

• Docket Number: M-2011-024-C.

FR Notice: 76 FR 54803 (9/2/2011).

Petitioner: AMFIRE Mining Company, LLC, One Energy Place, Latrobe, Pennsylvania 15650.

Mine: Ondo Extension Mine, MSHA I.D. No. 36-09005, located in Indiana County, Pennsylvania.

Regulation Affected: 30 CFR 75.503 (Permissible electric equipment; maintenance) and 30 CFR 18.35(a)(5)(i) (Portable (trailing) cables and cords).

• Docket Number: M-2011-026-C.

FR Notice: 76 FR 54803 (9/2/2011).

Petitioner: AMFIRE Mining Company, LLC, One Energy Place, Latrobe, Pennsylvania 15650.

Mine: Madison Mine, MSHA I.D. No. 36-09127, located in Cambria County, Pennsylvania.

Regulation Affected: 30 CFR 75.503 (Permissible electric equipment; maintenance) and 30 CFR 18.35(a)(5)(i) (Portable (trailing) cables and cords).

• Docket Number: M-2011-028-C.

FR Notice: 76 FR 59743 (9/27/2011).

Petitioner: West Virginia Mine Power, Inc., P.O. Box 574, Rupert, West Virginia 25984-0574.

Mine: Mountaineer Pocahontas Mine No. 1, MSHA I.D. No. 46-09172, located in Greenbrier County, West Virginia.

Regulation Affected: 30 CFR 75.1101-1(b) (Deluge-type water spray systems).

• Docket Number: M-2011-029-C.

FR Notice: 76 FR 59744 (9/27/2011).

Petitioner: West Virginia Mine Power, Inc., P.O. Box 574, Rupert, West Virginia 25984-0574.

Mine: Mountaineer Pocahontas Mine No. 3, MSHA I.D. No. 46-09210, located in Greenbrier County, West Virginia.

Regulation Affected: 30 CFR 75.1101-1(b) (Deluge-type water spray systems).

• Docket Number: M-2012-073-C.

FR Notice: 77 FR 27095 (5/8/2012).

Petitioner: Jim Walter Resources, Inc., 3000 Riverchase Galleria, Suite 1700, Birmingham, Alabama 35244.

Mine: No. 4 Mine, MSHA I.D. No. 01-01247, located in Tuscaloosa County, Alabama.

Regulation Affected: 30 CFR 75.507 (Power connection points).

• Docket Number: M-2011-007-M.

FR Notice: 76 FR 59743 (9/27/2011).

Petitioner: Riverside Cement Company, 19409 National Trails Highway, Oro Grande, California 92368.

Mine: Oro Grande Quarry, MSHA I.D. No. 04-00011, San Bernardino County, California.

Regulation Affected: 30 CFR 56.6131 (Location of explosive material storage facilities).

• Docket Number: M-2011-010-M

FR Notice: 76 FR 69766 (11/9/2011).

Petitioner: Specialty Granules Inc., 131 S. Dearborn Street, Suite 2400, Chicago, Illinois 60603.

Mines: Annapolis Quarry, MSHA I.D. No. 23-00288, #1 Hillcrest Drive, Annapolis, Missouri 63620, located in Iron County, Missouri; Charmian Mine, MSHA I.D. No. 36-03460, 1455 Old Waynesboro Road, Blue Ridge Summit, Pennsylvania 17214, located in Adams County, Pennsylvania; Kremlin Mine, MSHA I.D. No. 47-00148, 248 Kremlin Road, Pembine, Wisconsin 54156, located in Marinette County, Wisconsin.

Regulation Affected: 30 CFR 56.13020 (Use of compressed air).

• Docket Number: M-2011-011-M.

FR Notice: 76 FR 69767 (11/9/2011).

Petitioner: Specialty Granules, Inc., 1101 Opal Court, Suite 315 Hagerstown, Maryland 21740.

Mine: Specialty Granules (Ione) LLC, MSHA I.D. No. 04-05533, located in Amador County, California.

Regulation Affected: 30 CFR 56.13020 (Use of compressed air).

• Docket Number: M-2011-012-M.

FR Notice: 77 FR 4835 (1/31/2012).

Petitioner: Celite Corporation, 2500 Miguelito Canyon Road, Lompoc, California 93436.

Mine: Lompoc Plant, MSHA I.D. No 04-02848, located in Santa Barbara County, California.

Regulation Affected: 30 CFR 56.20001 (Intoxicating beverage and narcotics).

• Docket Number: M-2011-013-M.

FR Notice: 77 FR 4836 (1/31/2011).

Petitioner: Dicalite Minerals Corporation, 36994 Summit Lake Road, Burney, California 96103.

Mine: Dicalite Minerals Corporation, MSHA I.D. No. 04-04053, located in Shasta County, California.

Regulation Affected: 30 CFR 56.20001 (Intoxicating beverage and narcotics).

• Docket Number: M-2011-015-M.

FR Notice: 77 FR 14427 (3/9/2012).

Petitioner: Swenson Granite Company LLC, 369 North State Street, Concord, New Hampshire 03301.

Mine: Swenson Gray Quarry, MSHA I.D. No. 27-00083, located in Merrimack County, New Hampshire.

Regulation Affected: 30 CFR 56.19090 (Dual signaling systems).

• Docket Number: M-2011-016-M.

FR Notice: 77 FR 14427 (3/9/2012).

Petitioner: Swenson Granite Company LLC, 369 North State Street, Concord, New Hampshire 03301.

Mine: Swenson Gray Quarry, MSHA I.D. No. 27-00083, located in Merrimack County, New Hampshire.

Regulation Affected: 30 CFR 56.19009 (Position indicator).

• Docket Number: M-2012-003-M.

FR Notice: 77 FR 27091 (5/8/2012).

Petitioner: Minnesota Mining & Manufacturing Company, 144 Rosecrans Street, Wausau, Wisconsin 54401.

Mines: Graystone Plant, MSHA I.D. No. 47-00119 and Wausau Plant, MSHA I.D. No. 47-02918, located in Marathon County, Wisconsin.

Regulation Affected: 30 CFR 56.13020 (Use of compressed air).

Dated: August 14, 2012.
George F. Triebsch,
Director, Office of Standards, Regulations and Variances.

[FR Doc. 2012-20306 Filed 8-17-12; 8:45 am]

BILLING CODE 4510-43-P